ENVIRONMENTAL PROTECTION AGENCY

[ER-FRL-9035-8]

Environmental Impact Statements; Notice of Availability

Responsible Agency: Office of Federal Activities, General Information (202) 564-7146 or http://www2.epa.gov/nepa/.

Weekly receipt of Environmental Impact Statements (EISs)

Filed 10/16/2017 Through 10/20/2017

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20170208, Draft, FHWA, UT, State Route 30, S.R. 23 to 1000 West, Comment Period Ends: 12/15/2017, Contact: Rod Terry 801-620-1686

EIS No. 20170209, Final, NOAA, MA, New England Fishery Management Council Omnibus Essential Fish Habitat Amendment 2, Review Period Ends: 11/27/2017, Contact: Moira Kelly 978-281-9218

EIS No. 20170210, Final, USFWS, WY, Upper Green River Area Rangeland Project, Review Period Ends: 12/11/2017, Contact: Dave Booth (307) 367-4326

EIS No. 20170211, Final, DOC, CT, Programmatic—Nationwide Public Safety Broadband Network for the Eastern United States, Review Period Ends: 11/27/2017, Contact: Amanda Pereira (571) 665-6072

EIS No. 20170212, Draft Supplement, BLM, CA, Palen Solar Project (formerly Palen Solar Power Project), Comment Period Ends: 12/11/2017, Contact: Mark DeMaio 760-833-7124

Amended Notices

EIS No. 20170164, Draft, USFS, CA, Exchequer Restoration Project, Comment Period Ends: 10/09/2017, Contact: Elaine Locke 559-855-5355

Revision to FR Notice Published 08/25/2017; U.S. Forest Service is reopening the comment period to end 11/27/2017.

EIS No. 20170187, Draft, USACE, CA, Aliso Creek Mainstem Ecosystem Restoration Study, Environmental Impact Statement, Comment Period Ends: 11/13/2017, Contact: Deborah Lamb (213) 452-3798

Revision to FR Notice Published on 09/29/2017; Extending Comment Period from 11/13/2017 to 11/28/2017.

EIS No. 20170190, Draft, USACE, CA, Ballona Wetlands Restoration Project, Comment Period Ends: 11/24/2017, Contact: Daniel Swenson 213-452-3414

Revision to FR Notice Published on 10/06/2017; Extending Comment Period from 11/24/2017 to 02/05/2018.

Dated: October 24, 2017.
Kelly Knight,
Director, NEPA Compliance Division, Office of Federal Activities.

[FR Doc. 2017-23452 Filed 10-26-17; 8:45 am]

BILLING CODE 6560-50-P